DEPARTMENT OF HEALTH AND HUMAN SERVICES

Office of the Secretary

[Document Identifier: OS-0990-New-30D]

Agency Information Collection Activities; Submission to OMB for Review and Approval; Public Comment Request

AGENCY: Office of the Secretary, HHS.

ACTION: Notice.

SUMMARY: In compliance with the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before June 5, 2017.

ADDRESSES: Submit your comments to OIRA_submission@omb.eop.gov or via facsimile to (202) 395-5806.

FOR FURTHER INFORMATION CONTACT: Information Collection Clearance staff, Information.CollectionClearance@hhs.gov or (202) 795-7714.

SUPPLEMENTARY INFORMATION: When submitting comments or requesting information, please include the Information Collection Request Title and document identifier 0999-New-30D for reference.

Information Collection Request Title: Pregnancy Assistance Fund (PAF) Performance Measures Collection, FY2017-FY2019 cohort.

OMB No.: 0990—New.

Abstract: The Office of Adolescent Health (OAH), U.S. Department of Health and Human Services (HHS), is requesting approval by OMB of a new information collection request. In FY2017, OAH expects to award a new, 3-year cohort of Pregnancy Assistance Fund (PAF) grants. Performance measure data collection is a requirement of PAF grants and is included in the funding announcement.

Need and Proposed Use of the Information: The data collection will provide OAH with performance data to inform planning and resource allocation decisions; identify technical assistance needs for grantees; facilitate grantees' continuous quality improvement in program implementation; and provide HHS, Congress, OMB, and the general public with information about the individuals who participate in PAF-funded activities and the services they receive.

Likely Respondents: 20 PAF grantees (States and Tribes).

The total annual burden hours estimated for this ICR are summarized in the table below.

Total Estimated Annualized Burden—Hours
Form name | Number of respondents | Number of responses per respondent | Average burden per response (in hours) | Total burden hours
Training | 20 | 1 | 15/60 | 5
Partnerships and Sustainability | 20 | 1 | 3 | 60
Dissemination | 20 | 1 | 30/60 | 10
Reach and Demographics | 20 | 1 | 645/60 | 215
Core Services | 20 | 1 | 750/60 | 250
Education | 20 | 1 | 7 | 140
Birth Outcomes | 20 | 1 | 270/60 | 90
Self-Sufficiency Outcomes | 20 | 1 | 90/60 | 30
Total | 20 | 1 | 40 | 800

Terry S. Clark,
Assistant Information Collection Clearance Officer.

[FR Doc. 2017-08972 Filed 5-3-17; 8:45 am]

BILLING CODE 4168-11-P